DEPARTMENT OF COMMERCE

International Trade Administration

[A-201-805]

Notice of Final Results of Antidumping Duty Changed Circumstances Review: Certain Circular Welded Non-Alloy Steel Pipe From Mexico

AGENCY: Import Administration, International Trade Administration, Department of Commerce.

SUMMARY: The Department of Commerce (the Department) has determined that Lamina y Placa Comercial, S.A. de C.V. (Lamina y Placa) is the successor-in-interest to Tuberia Nacional, S.A. de C.V. (TUNA) and, as a result, should be accorded the same treatment previously accorded TUNA in regard to the antidumping duty order on certain circular welded non-alloy steel pipe (circular welded pipe) from Mexico.

DATES: Effective Date: December 30, 2010.

FOR FURTHER INFORMATION CONTACT: Mark Flessner or Robert James, AD/CVD Operations, Office 7, Import Administration, International Trade Administration, U.S. Department of Commerce, 14th Street and Constitution Avenue, NW., Room 7866, Washington, DC 20230; telephone: (202) 482-6312 or (202) 482-0649, respectively.

Background

The Department published an antidumping duty order on circular welded pipe from Mexico on November 2, 1992. See Notice of Antidumping Duty Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992).

On May 17, 2010, TUNA and Lamina y Placa jointly filed a request for a changed circumstances review of the antidumping duty order on circular welded pipe from Mexico. TUNA and Lamina y Placa claim that Lamina y Placa is the successor-in-interest to TUNA in accordance with section 751(b) of the Tariff Act of 1930, as amended (the Act) and 19 CFR 351.216. TUNA and Lamina y Placa provided documentation supporting their assertion.

On November 22, 2010, the Department issued the initiation and preliminary results of the changed circumstances review of the antidumping duty order on circular welded pipe from Mexico. See Notice of Initiation and Preliminary Results of Antidumping Duty Changed Circumstances Review: Certain Circular Welded Non-Alloy Steel Pipe from Mexico, 75 FR 71072 (November 22, 2010) (Preliminary Results). The Department made its preliminary determination that Lamina y Placa is the successor-in-interest to TUNA and should be treated as such for antidumping duty cash deposit purposes. In the Preliminary Results, we stated that interested parties could submit case briefs to the Department no later than 15 days after the publication of the Preliminary Results in the Federal Register, and submit rebuttal briefs, limited to the issues raised in those case briefs, five days subsequent to the case briefs' due date. No party submitted case briefs or other comments on the Preliminary Results.

Scope of the Order

The merchandise covered by this order is circular welded non-alloy steel pipes and tubes, of circular cross-section, not more than 406.4 millimeters (16 inches) in outside diameter, regardless of wall thickness, surface finish (black, galvanized, or painted), or end finish (plain end, beveled end, threaded, or threaded and coupled). These pipes and tubes are generally known as standard pipes and tubes and are intended for the low-pressure conveyance of water, steam, natural gas, and other liquids and gases in plumbing and heating systems, air conditioning units, automatic sprinkler systems, and other related uses, and generally meet ASTM A-53 specifications. Standard pipe may also be used for light load-bearing applications, such as for fence tubing, and as structural pipe tubing used for framing and support members for reconstruction or load-bearing purposes in the construction, shipbuilding, trucking, farm equipment, and related industries. Unfinished conduit pipe is also included in this order. All carbon steel pipes and tubes within the physical description outlined above are included within the scope of this order, except line pipe, oil country tubular goods, boiler tubing, mechanical tubing, pipe and tube hollows for redraws, finished scaffolding, and finished conduit. Standard pipe that is dual or triple certified/stenciled that enters the United States as line pipe of a kind used for oil or gas pipelines is also not included in this order.

Imports of the products covered by this order are currently classifiable under the following Harmonized Tariff Schedule of the United States (HTSUS) subheadings: 7306.30.10.00, 7306.30.50.25, 7306.30.50.32, 7306.30.50.40, 7306.30.50.55, 7306.30.50.85, and 7306.30.50.90. Although the HTSUS subheadings are provided for convenience and customs purposes, our written description of the scope of this order is dispositive.

Final Results of Changed Circumstances Review

Based on the information provided by Lamina y Placa, the Department's analysis in the Preliminary Results (which we incorporate herein by reference), and in light of the fact that interested parties did not submit any comments during the comment period, the Department hereby determines that Lamina y Placa is the successor-in-interest to TUNA for antidumping duty cash deposit purposes.

Instructions to U.S. Customs and Border Protection

The Department will instruct U.S. Customs and Border Protection (CBP) to continue to suspend liquidation of all shipments of the subject merchandise produced and exported by Lamina y Placa entered, or withdrawn from warehouse, for consumption, on or after the publication date of this notice in the Federal Register at the rate of 2.92 percent (i.e., TUNA's cash deposit rate). See Circular Welded Non-Alloy Steel Pipe From Mexico: Amended Final Results of Antidumping Duty Administrative Review, 66 FR 37454 (July 18, 2001). This deposit requirement shall remain in effect until further notice.

Notification

This notice also serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

This notice is in accordance with sections 751(b) and 777(i)(1) and (2) of the Act and 19 CFR 351.216(e).

Dated: December 23, 2010.
Christian Marsh,
Acting Deputy Assistant Secretary for Import Administration.

[FR Doc. 2010-32939 Filed 12-29-10; 8:45 am]

BILLING CODE 3510-DS-P